FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011776-123.

Title: Asia North American Eastbound Rate Agreement.

Parties: American President Lines, Ltd., and APL Co. Pte Ltd. (as one party).

Hapag-Lloyd Container Linie GmbH.

Kawasaki Kisen Kaisha, Ltd.

AP Moller-Maersk Sea-Land.

Mitsui O.S.K. Lines, Ltd.

Nippon Yusen Kaisha.

Orient Overseas Container Line Limited.

P&O Nedlloyd B.V.

P&O Nedlloyd Limited.

Synopsis: The modification extends the suspension of the agreement for an additional six months through November 1, 2003, and is effective upon filing.

Agreement No.: 011591-003.

Title: EUKOR/WWL Space Charter Agreement.

Parties: EUKOR Car Carriers, Inc.,

Wallenius Wilhelmsen Lines AS.

Synopsis: The modification adds the westbound trade from U.S. Atlantic, Gulf and Pacific Coast ports and inland and coastal points to all ports in Japan and Korea and inland and coastal points, and removes the annual limitation on tonnage to be chartered to either party.

By Order of the Federal Maritime Commission.
Dated: April 17, 2003.
Bryant L. VanBrakle.

[FR Doc. 03-9955 Filed 4-22-03; 8:45 am]

BILLING CODE 6730-01-P